DEPARTMENT OF ENERGY

Federal Energy Regulatory Commission

Combined Notice of Filings #1

Take notice that the Commission received the following electric rate filings:

Docket Numbers: ER13-1909-000.

Applicants: Maine Public Service Company.

Description: MPS Order No. 1000 Interregional Compliance Filing to be effective N/A.

Filed Date: 7/9/13.

Accession Number: 20130709-5035.

Comments Due: 5 p.m. ET 8/26/13.

Docket Numbers: ER13-1923-000.

Applicants: Midcontinent Independent System Operator, Inc.

Description: 07-10-13 MISO-SERTP Order 1000 Interregional to be effective 1/1/2015.

Filed Date: 7/10/13.

Accession Number: 20130710-5092.

Comments Due: 5 p.m. ET 8/26/13.

Docket Numbers: ER13-1924-000.

Applicants: Duquesne Light Company, PJM Interconnection, L.L.C.

Description: PJM TOs OATT Order No. 1000 Compliance Filing re MISO-PJM JOA to be effective N/A.

Filed Date: 7/10/13.

Accession Number: 20130710-5093.

Comments Due: 5 p.m. ET 8/26/13.

Docket Numbers: ER13-1926-000.

Applicants: Duquesne Light Company, PJM Interconnection, L.L.C.

Description: PJM TOs Cost Allocation Revisions to NYISO-PJM JOA Order 1000 Compliance to be effective N/A.

Filed Date: 7/10/13.

Accession Number: 20130710-5106.

Comments Due: 5 p.m. ET 8/26/13.

Docket Numbers: ER13-1927-000.

Applicants: Duquesne Light Company, PJM Interconnection, L.L.C.

Description: PJM Transmission Owners file PJM OATT Revisions re PJM-SERTP Cost Allocation to be effective 1/1/2014.

Filed Date: 7/10/13.

Accession Number: 20130710-5111.

Comments Due: 5 p.m. ET 8/26/13.

Docket Numbers: ER13-1928-000.

Applicants: Duke Energy Progress, Inc., Duke Energy Carolinas, LLC.

Description: Order No. 1000 Interregional Compliance Filing—Carolinas to be effective 12/31/9998.

Filed Date: 7/10/13.

Accession Number: 20130710-5116.

Comments Due: 5 p.m. ET 8/26/13.

Docket Numbers: ER13-1930-000.

Applicants: Louisville Gas and Electric Company.

Description: Order No. 1000 Compliance Filing to be effective 12/31/9998.

Filed Date: 7/10/13.

Accession Number: 20130710-5127.

Comments Due: 5 p.m. ET 8/26/13.

Docket Numbers: ER13-1935-000.

Applicants: South Carolina Electric & Gas Company.

Description: Order 1000 Interregional filing to be effective 12/31/9998.

Filed Date: 7/10/13.

Accession Number: 20130710-5176.

Comments Due: 5 p.m. ET 8/26/13.

Docket Numbers: ER13-1936-000.

Applicants: PJM Interconnection, L.L.C.

Description: PJM OATT Order No. 1000 Interregional Compliance Filing re OA Schedule 6 & 6A to be effective 1/1/2014.

Filed Date: 7/10/13.

Accession Number: 20130710-5181.

Comments Due: 5 p.m. ET 8/26/13.

Docket Numbers: ER13-1937-000.

Applicants: Southwest Power Pool, Inc.

Description: Order No. 1000 Interregional Compliance Joint Operating Agreement with MISO to be effective 12/31/9998.

Filed Date: 7/10/13.

Accession Number: 20130710-5187.

Comments Due: 5 p.m. ET 8/26/13.

Docket Numbers: ER13-1938-000.

Applicants: Midcontinent Independent System Operator, Inc.

Description: 07-10-13 MISO-SPP Order 1000 Interregional to be effective 3/30/2014.

Filed Date: 7/10/13.

Accession Number: 20130710-5192.

Comments Due: 5 p.m. ET 8/26/13.

Docket Numbers: ER13-1939-000.

Applicants: Southwest Power Pool, Inc.

Description: Order 1000 Interregional Compliance Filing to be effective 12/31/9998.

Filed Date: 7/10/13.

Accession Number: 20130710-5193.

Comments Due: 5 p.m. ET 8/26/13.

Docket Numbers: ER13-1940-000.

Applicants: Ohio Valley Electric Corporation.

Description: Order No. 1000 Compliance Filing to be effective 12/31/9998.

Filed Date: 7/10/13.

Accession Number: 20130710-5199.

Comments Due: 5 p.m. ET 8/26/13.

Docket Numbers: ER13-1941-000.

Applicants: Alabama Power Company.

Description: Order No. 1000 Interregional Compliance Filing—FILING SUMBITTED UNDER PROTEST to be effective 12/31/9998.

Filed Date: 7/10/13.

Accession Number: 20130710-5200.

Comments Due: 5 p.m. ET 8/26/13.

Docket Numbers: ER13-1942-000.

Applicants: New York Independent System Operator, Inc.

Description: OATT Order No. 1000 Compliance Filing to be effective 1/1/2014.

Filed Date: 7/10/13.

Accession Number: 20130710-5222.

Comments Due: 5 p.m. ET 8/26/13.

Docket Numbers: ER13-1943-000.

Applicants: Midcontinent Independent System Operator, Inc.

Description: 07-10-13 MISO-PJM Order 1000 Interregional to be effective 9/17/2010.

Filed Date: 7/10/13.

Accession Number: 20130710-5231.

Comments Due: 5 p.m. ET 8/26/13.

Docket Numbers: ER13-1944-000.

Applicants: PJM Interconnection, L.L.C.

Description: PJM OATT Order 1000 Interregional Compliance filing re the PJM-MISO JOA to be effective 1/1/2014.

Filed Date: 7/10/13.

Accession Number: 20130710-5237.

Comments Due: 5 p.m. ET 8/26/13.

Docket Numbers: ER13-1945-000.

Applicants: Midcontinent Independent System Operator, Inc.

Description: 07-10-13 Order 1000 Interregional Att FF to be effective 1/1/2014.

Filed Date: 7/10/13.

Accession Number: 20130710-5238.

Comments Due: 5 p.m. ET 8/26/13.

Docket Numbers: ER13-1946-000.

Applicants: New York Independent System Operator, Inc.

Description: OATT Order No. 1000 Compliance Filing to be effective 7/10/2013.

Filed Date: 7/10/13.

Accession Number: 20130710-5240.

Comments Due: 5 p.m. ET 8/26/13.

Docket Numbers: ER13-1947-000.

Applicants: PJM Interconnection, L.L.C.

Description: PJM OATT Order No. 1000 Compliance Filing re NYISO-PJM JOA to be effective 7/10/2013.

Filed Date: 7/10/13.

Accession Number: 20130710-5241.

Comments Due: 5 p.m. ET 8/26/13.

Docket Numbers: ER13-1955-000.

Applicants: Entergy Services, Inc.

Description: Entergy Services, Inc. submits OATT Order No. 1000 Interregional Coordination Compliance Filing and Limited Waiver Request.

Filed Date: 7/10/13.

Accession Number: 20130710-5259.

Comments Due: 5 p.m. ET 8/26/13.

Docket Numbers: ER13-1956-000.

Applicants: Cleco Power LLC.

Description: Cleco Power LLC submits Order No. 1000 Interregional Compliance Filing.

Filed Date: 7/10/13.

Accession Number: 20130710-5264.

Comments Due: 5 p.m. ET 8/26/13.

Docket Numbers: ER13-1957-000.

Applicants: ISO New England Inc., PJM Interconnection, L.L.C., New York Independent System Operator, Inc.

Description: Northeastern ISO/RTO Planning Coordination Protocol Agreement to be effective 7/10/2013.

Filed Date: 7/11/13.

Accession Number: 20130711-5119.

Comments Due: 5 p.m. ET 8/26/13.

Docket Numbers: ER13-1960-000.

Applicants: ISO New England Inc., New England Power Pool Participants Committee.

Description: Interregional Coordination and Cost Allocation Order 1000 to be effective 1/1/2014.

Filed Date: 7/11/13.

Accession Number: 20130711-5133.

Comments Due: 5 p.m. ET 8/26/13.

Docket Numbers: ER13-1962-000.

Applicants: Midcontinent Independent System Operator, Inc.

Description: Midcontinent Independent System Operator, Inc. submits tariff filing per 35.13(a)(2)(iii: 07-11-2013 SA 6502 Ameren-MISO SSR Agreement to be effective 1/1/2013.

Filed Date: 7/11/13.

Accession Number: 20130711-5178.

Comments Due: 5 p.m. ET 7/31/13.

Docket Numbers: ER13-1963-000.

Applicants: Midcontinent Independent System Operator, Inc.

Description: Midcontinent Independent System Operator, Inc. submits tariff filing per 35.13(a)(2)(iii: 07-11-2013 Schedule 43C Ameren Edwards to be effective 1/1/2013.

Filed Date: 7/11/13.

Accession Number: 20130711-5189.

Comments Due: 5 p.m. ET 7/31/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 12, 2013.
Nathaniel J. Davis, Sr.,
Deputy Secretary.

[FR Doc. 2013-17336 Filed 7-18-13; 8:45 am]

BILLING CODE 6717-01-P